DEPARTMENT OF THE INTERIOR

Bureau of Land Management

[20X.LLAZ920000.L14400000.ET0000; AZA30749]

Public Land Order No. 7898; Extension of Public Land Order 7467 San Francisco Peaks/Mount Elden Recreation Area; Arizona

AGENCY: Bureau of Land Management, Interior.

ACTION: Notice of public land order.

SUMMARY: This Public Land Order (PLO) extends for an additional 20-year term the withdrawal originally created by PLO No. 7467, published October 16, 2000. This extension is necessary to protect the capital investments, scenic values, and dispersed recreation in the U.S. Forest Service's (USFS) San Francisco Peaks/Mount Elden Recreation area, encompassing 74,689 acres. PLO No. 7467 withdrew these National Forest System Lands from location and entry under the United States mining laws for a 20-year period.

DATES: This Public Land Order takes effect on October 15, 2020.

FOR FURTHER INFORMATION CONTACT: Sara Ferreira, Land Law Examiner, Bureau of Land Management (BLM), at 602-417-9598 or by email at sferreir@blm.gov, or contact the BLM, Arizona State Office, One North Central Ave., Suite 800, Phoenix, AZ 85004. Persons who use a telecommunications device for the deaf (TDD) may call the Federal Relay Service (FRS) at 1-800-877-8339 to contact Ms. Ferreira. The FRS is available 24 hours a day, 7 days a week, to leave a message or question. You will receive a reply during normal business hours.

SUPPLEMENTARY INFORMATION: The purpose of the original withdrawal requires an extension in order to continue to protect those areas withdrawn by PLO No. 7467 for an additional 20-year term and to protect the capital investments and dispersed recreation resources in the San Francisco Peaks/Mount Elden Recreation area, Coconino National Forest, Arizona.

ORDER

By virtue of the authority vested in the Secretary of the Interior by Section 204 of the Federal Land Policy and Management Act of 1976, 43 U.S.C. 1714, it is ordered as follows:

1. Subject to valid existing rights, PLO No. 7467, (65 FR 61180 (2000)), which withdrew National Forest System lands from location and entry under the United States mining laws, but not from leasing under the mineral leasing laws, is hereby extended for an additional 20-year period to protect the San Francisco Peaks/Mount Elden Recreation area, Coconino National Forest, Arizona.

The October 16, 2000, Federal Register publication (65 FR 61180) identified 74,380.50 acres of National Forest System Lands for the San Francisco Peaks/Mount Elden Recreation Area withdrawal. Since 2000, a Land Survey Report was completed and approved by BLM Cadastral Survey. The revised legal description and acreage set forth herein are consistent with the Specifications for Descriptions of Land (2015) and are used in place of the land description in the application and original PLO issued in 2000. The cadastral survey program reviewed the legal description and maps within the withdrawal boundary against all recent plat documents and found the acreage to be 74,689, a difference of 308.5 acres from the PLO issued in 2000. For the purposes of this withdrawal extension, the withdrawal boundary remains unchanged, and the total acreage reflects the more accurate calculation of 74,689 acres, which are legally described as follows:

Gila and Salt River Meridian, Arizona

T. 21 N, R. 7 E,

Sec. 1;

Sec. 2, excepting H.E.S. No. 86.

T. 21 N, R. 8 E,

Sec. 6, excepting SE¼NE¼SE¼NE¼, E½SE¼SE¼NE¼, E½SE¼SW¼, S½SW¼SE¼SW¼, NE¼SE¼SE¼NE¼SE¼, E½SW¼SE¼SE¼NE¼SE¼, SE¼SE¼SE¼NE¼SE¼, S½SE¼. T. 22 N, R. 6 E,

Secs. 1 thru 3;

Sec. 4, excepting SE¼NW¼;

Secs. 9 thru 11;

Sec. 12, excepting NW¼;

Sec. 13, N½;

Secs. 14 and 15;

Sec. 16, E½.

T. 22 N, R. 7 E,

Secs. 1 thru 18;

Secs. 20 thru 26;

Sec. 27, excepting NE¼;

Secs. 28 and 29;

Sec. 32, N½;

Sec. 33, N½, N½SW¼, N½SE¼, SW¼SE¼, W½NW¼NW¼SE¼SE¼, W½SW¼NW¼SE¼SE¼, W½NW¼SW¼SE¼SE¼, W½SW¼SW¼ SE¼SE¼;

Sec. 34, N½, N½SW¼, E½SW¼SW¼, NW¼SE¼;

Secs. 35 and 36.

T. 22 N, R. 8 E,

Secs. 5 thru 7;

Sec. 8, excepting E½SE¼;

Sec. 17, excepting N½NE¼NE¼NE¼, N½NW¼NE¼NE¼;

Secs. 18 and 19;

Sec. 20, excepting S½SE¼NE¼NE¼, SE¼SW¼NE¼NE¼, S½SE¼NE¼;

Sec. 29, excepting E½SW¼SE¼SE¼, SE¼SE¼SE¼;

Secs. 30 and 31;

Sec. 32, N½, N½SW¼, SW¼SW¼, N½NE¼NE¼SE¼SW¼, N½NW¼NE¼SE¼SW¼, W½SE¼SW¼, N½SE¼, E½SW¼SE¼, N½NE¼NW¼SW¼SE¼, N½NW¼NW¼SW¼SE¼, SE¼SE¼.

T. 23 N, R. 6 E,

Sec. 8, lots 1, 2, 7, and 8;

Sec. 9;

Sec. 10, excepting W½NW¼NE¼NW¼, SE¼NW¼NE¼NW¼, E½NW¼NW¼, NE¼NW¼NW¼NW¼;

Sec. 11, excepting W½SE¼SE¼NE¼SW¼, W½NE¼NE¼SE¼SW¼, W½SE¼NE¼SE¼SW¼, W½NE¼SE¼SE¼SW¼, W½SE¼SE¼SW¼, W½SE¼SE¼SE¼SW¼;

Sec. 12;

Sec. 13, excepting SW¼NE¼NE¼, NE¼SE¼NE¼NE¼, W½SE¼NE¼NE¼, SE¼NW¼NE¼, N½NE¼SW¼NE¼, N½NW¼SE¼NE¼

Sec. 14, excepting N½NE¼NE¼, N½NE¼SW¼NE¼NE¼, N½NW¼SW¼NE¼NE¼, N½NE¼SE¼NE¼NE¼, N½NW¼SE¼NE¼NE¼, N½NW¼NE¼, N½NE¼SW¼NW¼NE¼, N½NW¼SW¼NW¼NE¼, N½NE¼SE¼NW¼NE¼, N½NW¼SE¼NW¼NE¼, N½NE¼NW¼, N½NE¼SW¼NE¼NW¼, N½NW¼SW¼NE¼NW¼, N½NE¼SE¼NE¼NW¼, N½NW¼SE¼NE¼NW¼, N½NW¼NW¼, N½NE¼SW¼NW¼NW¼, N½NW¼SW¼NW¼NW¼, N½NE¼SE¼NW¼NW¼, N½NW¼SE¼NW¼NW¼, SW¼SW¼;

Sec. 15, excepting SE¼SE¼;

Secs. 16 and 17;

Secs. 20 and 21;

Sec. 22, excepting NE¼NE¼, NW¼, S½SW¼SW¼, W¼NE¼SE¼SW¼, S½NW¼SE¼SW¼, SW¼SE¼SW¼, W½SE¼SE¼SW¼;

Sec. 23, excepting NW¼NW¼, SW¼NE¼SW¼SW¼, S½SW¼SW¼SW¼, SE¼SW¼SW¼, S½SE¼SW¼, SW¼SW¼SE¼;

Secs. 24 and 25;

Sec. 26, excepting SE¼SW¼NE¼NE¼, N½NE¼NW¼NE¼, N½NW¼NW¼NE¼, NE¼NW¼SE¼NE¼, NW¼, N½SW¼, subject to a reservation by Summit Properties, Inc., described in a Warranty Deed recorded in Coconino County, Arizona in Docket 663, Pages 481 thru 484;

Sec. 27, lot 1, N½NE¼NE¼, SW¼NE¼NE¼, N½NE¼SE¼NE¼NE¼, W½SE¼NE¼NE¼, NW¼NE¼, E½SW¼NE¼, E½NW¼SW¼NE¼, E½SW¼SW¼NE¼, S½NE¼NE¼SE¼NE¼, W½NE¼SE¼NE¼, SE¼NE¼SE¼NE¼, W½SE¼NE¼, SE¼SE¼NE¼, S½SW¼NW¼NW¼, SW¼SE¼NW¼NW¼, W½NE¼SW¼NW¼, W½SW¼NW¼, SE¼SW¼NW¼, SW¼SE¼NW¼, N½NE¼SW¼, N½SW¼NE¼SW¼, N½SE¼NE¼SW¼, W½NW¼SW¼, W½SW¼SW¼, SE¼SW¼SW¼, S½SE¼SW¼, N½NE¼SE¼, N½SW¼NE¼SE¼, SE¼NE¼SE¼, N½NW¼SE¼, N½SW¼NW¼SE¼, N½SE¼NW¼SE¼, SW¼SW¼SE¼, W½SE¼SW¼SE¼, E½SE¼SE¼;

Secs. 28 and 29;

Secs. 32 and 33;

Sec. 34, SW¼NW¼NE¼, NW¼, SE¼;

Sec. 35, lots 1 thru 5, N½NE¼, E½NW¼SE¼NE¼, E½SW¼SE¼NE¼, E½SE¼NE¼, N½NE¼NW¼, W½SW¼NE¼NW¼, SE¼NE¼NW¼, N½NW¼NW¼, SW¼NW¼NW¼, W½SW¼NW¼, N½SW¼, N½SW¼SW¼, SE¼;

Sec. 36.

T. 23 N, R. 7 E,

Secs. 7 thru 12;

Sec. 13, excepting S½SE¼SW¼, M.S. No. 4652;

Secs. 14 thru 17;

Sec. 18, lots 3 thru 5, E½, N½NE¼NW¼, SE¼NE¼NW¼, N½NE¼NW¼NW¼, E½SE¼NW¼, S½SW¼SE¼NW¼, E½SW¼;

Secs. 19 thru 23;

Sec. 24, lots 1 thru 4, N½NW¼NE¼, E½SW¼NW¼NE¼, E½NW¼SW¼NW¼NE¼, E½NW¼NW¼SW¼NW¼NE¼, E½SW¼NW¼SW¼NW¼NE¼, E½SW¼SW¼NW¼NE¼, E½NW¼SW¼SW¼NW¼NE¼, E½SW¼SW¼SW¼NW¼NE¼, SE¼NW¼NE¼, NE¼SW¼NE¼, E½NW¼SW¼NE¼, E½NW¼NW¼SW¼NE¼, E½NW¼NW¼NW¼SW¼NE¼, E½SW¼NW¼NW¼SW¼NE¼, E½SW¼NW¼SW¼NE¼, E½NW¼SW¼NW¼SW¼NE¼, E½SW¼SW¼NW¼SW¼NE¼, S½SW¼NE¼, W½NW¼NW¼SW¼NE¼NW¼, W½SW¼NW¼SW¼NE¼NW¼, W½NW¼SW¼SW¼NE¼NW¼, W½SW¼SW¼SW¼NE¼NW¼, W½NW¼, W½NW¼NW¼NW¼SE¼NW¼, W½SW¼NW¼NW¼SE¼NW¼, W½NW¼SW¼NW¼SE¼NW¼, W½SW¼SW¼NW¼SE¼NW¼, S½SE¼NW¼, SW¼, W½SE¼, excepting M.S. No. 4652;

Secs. 25 thru 34;

Sec. 35, excepting a right-of-way described in two Quit-claim Deeds recorded in Coconino County, Arizona in Book 34 of Deeds, Pages 598 and 604;

Sec. 36.

T. 23 N., R. 8 E.,

Sec. 7;

Sec. 17, SW¼;

Sec. 18, excepting NW¼NE¼;

Sec. 19;

Sec. 20, W½;

Sec. 29, N½, SW¼, E½NE¼SE¼, E½NW¼NE¼SE¼, W½NE¼NW¼SE¼, W½NW¼SE¼, W½SE¼NW¼SE¼, W½SW¼SE¼, W½NE¼SW¼SE¼, N½NE¼SE¼SE¼;

Secs. 30 and 31;

Sec. 32, W½NW¼NE¼, W½SE¼NW¼NE¼, S½NE¼, W½, SE¼.

The areas described aggregate 74,689 acres.

2. This withdrawal will expire 20 years from the effective date of this Order, unless as a result of review conducted prior to the expiration date pursuant to Section 204(f) of the Federal Land Policy and Management Act of 1976, 43 U.S.C. 1714(f), the Secretary determines that the withdrawal shall be further extended.

Dated: October 9, 2020.
David L. Bernhardt,
Secretary of the Interior.

[FR Doc. 2020-22975 Filed 10-14-20; 8:45 am]

BILLING CODE 3411-15-P